DEPARTMENT OF DEFENSE

Office of the Secretary

[Docket ID: DoD-2014-OS-0067]

Privacy Act of 1974; System of Records

AGENCY: National Geospatial-Intelligence Agency, DoD.

ACTION: Notice to add a new System of Records.

SUMMARY: The National Geospatial-Intelligence Agency is establishing a new system of records in its inventory of record systems subject to the Privacy Act of 1974, as amended. The system is entitled “NGA-010, National Geospatial-Intelligence Agency Security Financial Disclosure Reporting Records System”. This system will allow NGA to collect and use employee financial disclosure information to facilitate a variety of NGA's mission-related duties.

DATES: Comments will be accepted on or before June 3, 2015. This proposed action will be effective the date following the end of the comment period unless comments are received which result in a contrary determination.

ADDRESSES: You may submit comments, identified by docket number and title, by any of the following methods:

• Federal Rulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Kenneth James, Acting Branch Chief, National Geospatial-Intelligence Agency (NGA), Financial Disclosure Program Manager, 7500 GEOINT Drive, Springfield, VA 22150 or by calling 571-557-0110.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Web site at http://dpcld.defense.gov/.

The proposed system report, as required by 5 U.S.C. 552a(r) of the Privacy Act of 1974, as amended, was submitted on Insert Date, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 27, 2015.
Aaron Siegel,
Alternate OSD Federal Register Liaison Officer, Department of Defense.

NGA-010

System name:

National Geospatial-Intelligence Agency Security Financial Disclosure Reporting Records System.

System location:

Records are maintained at National Geospatial-Intelligence Agency (NGA) Headquarters in Washington, DC metro facilities.

Categories of individuals covered by the system:

Current and former NGA employees, military personnel, contractors, and external applicants who have been extended a conditional offer of employment employed by or assigned to NGA facilities.

Categories of records in the system:

Identifying information, such as name, date of birth, Social Security Number (SSN), address, marital status, telephone number and work email address, employee identification number, employee status, annual income, financial information, investment information, real estate, owned and leased asset information.

The system also contains any records of the analysts' examination of the form and related materials, including any notations, memoranda, investigative notes and summaries or other observations.

Authority for maintenance of the system:

50 U.S.C. 402a, Coordination of counterintelligence activities; E.O. 13467, Reforming Processes Related to Suitability for Government Employment, Fitness for Contractor Employees, and Eligibility for Access to Classified National Security Information; Public Law 103-359, Title VIII, Counterintelligence and Security Enhancements Act of 1994; E.O. 10865, Safeguarding Classified Information Within Industry; E.O. 12333, United States Intelligence Activities; 5 CFR part 732; 5 CFR part 736; 32 CFR part 147; DCID 6/4; 5 U.S.C. 301 Departmental Regulations; DoDD 5105.60, National Geospatial-Intelligence Agency (NGA); 5 U.S.C. 7532 Suspension and Removal; E.O. 10450, Security Requirements for Government Employees; E.O. 12958, Classified National Security Information; E.O. 12968, Access to Classified Information; Section 1.350 U.S.C 401-413, National Security Act of 1947, as amended; DoD 5200.2-R, DoD Personnel Security Program; DCID 1/14, Personnel Security Standards and Procedures Governing Eligibility for Access to Sensitive Compartmented Information (SCI); and E.O. 9397 (SSN), as amended.

Purpose(s):

NGA collects and uses employee financial disclosure information to facilitate a variety of NGA's mission-related duties, including activities related to personnel security, access controls, security clearances, and counterintelligence activities.

Routine uses of records maintained in the system, including categories of uses and the purposes for such uses:

In addition to those disclosures generally permitted under 5 U.S.C. 552a(b) of the Privacy Act of 1974, as amended, these records may be specifically disclosed outside of the DoD as a routine use pursuant to 5 U.S.C. a(b)(3) as follows:

The DoD Blanket Routine Uses set forth at the beginning of NGA's compilation of systems of records notices may apply to this system. The complete list of DoD Blanket Routine Uses can be found online at: http://dpcld.defense.gov/Privacy/SORNsIndex/BlanketRoutineUses.aspx

Policies and practices for storing, retrieving, accessing, retaining, and disposing of records in the system:

Storage:

Paper records and electronic storage media.

Retrievability:

Records may be retrieved by name, employee identification number or SSN.

Safeguards:

Records in this system are safeguarded in accordance with applicable rules and policies, including all applicable NGA automated systems security and access policies. Strict controls have been imposed to minimize the risk of compromising the information that is being stored. Access to the computer system containing the records in this system is strictly limited to those individuals who have a need to know for the performance of their official duties and who have appropriate clearances or permissions. Some of the technical controls include limited, role based access as well as profiles based access to limit users to only data that is needed for the performance of their official duties. The system is located in a secure data center and operated by Federal personnel and contractors.

Retention and disposal:

Disposition pending (until the National Archives and Records Administration approve the retention and disposition of these records, treat as permanent).

System manager(s) and address:

Security and Installations Directorate, Personnel Security Division, Security Financial Disclosure Branch, National Geospatial-Intelligence Agency, 7500 GEOINT Drive, Springfield, VA 22150-7500.

Notification procedure:

Individuals seeking to determine whether information about themselves is contained in this system of records should address written inquiries to the National Geospatial-Intelligence Agency (NGA), Freedom of Information Act/Privacy Act Office, 7500 GEOINT Drive, Springfield, VA 22150-7500.

The request envelope and letter should both be clearly marked “Privacy Act Inquiry.”

The written request must contain your full name, current address, and date and place of birth. Also include an explanation of why you believe NGA would have information on you and specify when you believe the records would have been created.

You must sign your request and your signature must either be notarized or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). Signature)'.

Record access procedures:

Individuals seeking access to information about themselves contained in this system of records should address written inquiries to the National Geospatial-Intelligence Agency (NGA), Freedom of Information Act/Privacy Act Office, 7500 GEOINT Drive, Springfield, VA 22150-7500.

The request envelope and letter should both be clearly marked “Privacy Act Inquiry.”

The written request must contain your full name, current address, and date and place of birth. Also include an explanation of why you believe NGA would have information on you and specify when you believe the records would have been created.

You must sign your request and your signature must either be notarized or an unsworn declaration made in accordance with 28 U.S.C. 1746, in the following format:

If executed outside the United States: `I declare (or certify, verify, or state).under penalty of perjury under the laws of the United States of America that the foregoing is true and correct. Executed on (date). (Signature)'.

If executed within the United States, its territories, possessions, or commonwealths: `I declare (or certify, verify, or state) under penalty of perjury that the foregoing is true and correct. Executed on (date). Signature)'.

Contesting records procedures:

Individuals contesting the accuracy of records contained in this system of records about themselves should address written inquiries to the National Geospatial-Intelligence Agency (NGA), Freedom of Information Act/Privacy Act Office, 7500 Geoint Drive, Springfield, VA 22150-7500.

The request envelope and letter should both be clearly marked “Privacy Act Inquiry.”

The written request must contain your full name, current address, and date and place of birth. Also include an explanation of why you believe NGA would have information on you and specify when you believe the records would have been created.

You must sign your request and your signature must either be notarized or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). Signature)'.

Record source categories:

Information originates from the individual completing the security disclosure form. The system also contains records originating from the security specialist reviewing the financial submission, including any notations, memoranda, investigative notes and summaries or other observations made by the NGA specialist who reviews the file for trend analysis and/or anomalies.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access only to the information they submitted however exemption applies to the extent that disclosure would reveal the identity of a confidential source. The NGA specialist case notes will be kept separate from the individual's data submission. Those case notes will contain investigative case leads and summaries, sensitive processes, evidence gathered from external sources and potential referrals to law enforcement agencies. Note: When claimed, this exemption allows limited protection of investigative reports maintained in a system of records used in personnel or administrative actions.

Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 552a(b)(1), (2), and (3), (c) and (e) published in 32 CFR part 320. For additional information, contact the system manager.

[FR Doc. 2015-10060 Filed 5-1-15; 8:45 am]

BILLING CODE 5001-06-P